DEPARTMENT OF THE INTERIOR

National Park Service

[N6424; NPS-WASO-NAGPRA-NPS0040830; PPWOCRADN0-PCU00RP14.R50000]

Notice of Inventory Completion: U.S. Department of the Interior, Bureau of Land Management, Arizona State Office, Phoenix, AZ

AGENCY: National Park Service, Interior.

ACTION: Notice.

SUMMARY: In accordance with the Native American Graves Protection and Repatriation Act (NAGPRA), the U.S. Department of the Interior, Bureau of Land Management, Arizona State Office (BLM Arizona State Office) has completed an inventory of human remains and has determined that there is a cultural affiliation between the human remains and Indian Tribes or Native Hawaiian organizations in this notice.

DATES: Repatriation of the human remains in this notice may occur on or after September 22, 2025.

ADDRESSES: Send written requests for repatriation of the human remains in this notice to Raymond Suazo, Arizona State Director, BLM Arizona State Office, One North Central Avenue, Suite 800, Phoenix, AZ 85004, email BLM_AZ_ASOWEB@blm.gov.

SUPPLEMENTARY INFORMATION: This notice is published as part of the National Park Service's administrative responsibilities under NAGPRA. The determinations in this notice are the sole responsibility of the BLM Arizona State Office, and additional information on the determinations in this notice, including the results of consultation, can be found in its inventory or related records. The National Park Service is not responsible for the determinations in this notice.

Abstract of Information Available

Human remains representing, at least, six individuals have been identified from three sites located in Cochise County, AZ. No associated funerary objects are present.

In 1949, during a survey under the direction of Earl H. Swanson, human remains representing, at least, four individuals were found, recorded, and removed from AZ EE:8:3(ASM) (“Fairbanks Townsite”), a Hohokam site occupied between A.D. 70 and 1150. During surveys conducted in 1968, human remains representing, at least, one individual has been identified from AZ EE:8:38(ASM) (Big Metate Site), a Hohokam village site occupied between A.D. 200-1500 and AZ EE:8:46(ASM) (Turquoise Flat Site), occupied by the Hohokam between A.D. 500 and 1450. The human remains from all three sites are housed at the Arizona State Museum. No records indicating treatment of the human remains with any possibly hazardous substances have been found.

Cultural Affiliation

Based on the information available and the results of consultation, cultural affiliation is clearly identified by the information available about the human remains described in this notice.

Determinations

The BLM Arizona State Office has determined that:

• The human remains described in this notice represent the physical remains of six individuals of Native American ancestry.

• There is a connection between these human remains described in this notice and the Ak-Chin Indian Community; Gila River Indian Community of the Gila River Indian Reservation, Arizona; Pascua Yaqui Tribe of Arizona; Salt River Pima-Maricopa Indian Community of the Salt River Reservation, Arizona; and the Tohono O'odham Nation of Arizona.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after September 22, 2025. If competing requests for repatriation are received, the BLM Arizona State Office must determine the most appropriate requestor prior to repatriation. Requests for joint repatriation of the human remains are considered a single request and not competing requests. The BLM Arizona State Office is responsible for sending a copy of this notice to the Indian Tribes and Native Hawaiian organizations identified in this notice.

Authority: Native American Graves Protection and Repatriation Act, 25 U.S.C. 3003, and the implementing regulations, 43 CFR 10.10.

Dated: August 5, 2025.
Melanie O'Brien,
Manager, National NAGPRA Program.

[FR Doc. 2025-15978 Filed 8-20-25; 8:45 am]

BILLING CODE 4312-52-P